DEPARTMENT OF HEALTH AND HUMAN SERVICES

Performance Review Board Members

Title 5, U.S.C. Section 4314(c)(4) of the Civil Service Reform Act of 1978, Public Law 95-454, requires that the appointment of Performance Review Board Members be published in the Federal Register.

The following persons may be named to serve on the Performance Review Boards or Panels, which oversee the evaluation of performance appraisals of Senior Executive Service members of the Department of Health and Human Services.

Employee last name | Employee first name
Barry | Daniel
Brady | William
Brown | Mark
Coquis | Roberto
Fantinato | Jessica
Fischmann | Elizabeth
Gentile | John
Goldhaber | Ben
Hargan | Eric
Haseltine | Amy
Kretschmaier | Michon
Lewis | Lisa
McDaniel | Eileen
Novy | Steve
Rowell | Scott
Sample | Allen
Skeadas | Christos
Tobias | Constance

Dated: October 1, 2018.
Charles H. McEnerney III,
Director, Executive and Scientific Resources Division.

[FR Doc. 2018-21855 Filed 10-5-18; 8:45 am]

BILLING CODE 4151-17-P